DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that the Office of Management and Budget (OMB) extended its approval for a number of information collection requirements found in sections of 29 CFR parts 1910, 1915, and 1926. OSHA sought approval of these requirements under the Paperwork Reduction Act of 1995 (PRA-95), and, as required by that Act, is announcing the approval numbers and expiration dates for these requirements.

DATES: This notice is effective September 19, 2013.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards pertaining to, general industry, shipyard employment, and the construction industry (i.e., 29 CFR parts 1910, 1915, and 1926), and regulations containing procedures for handling of retaliation complaints. In these Federal Register announcements, the Agency provided 60-day comment periods for the public to respond to OSHA's burden hour and cost estimates.

In accordance with PRA-95 (44 U.S.C. 3501-3520), OMB renewed its approval for these information collection requirements, and assigned OMB control numbers to these requirements. The table below provides the following information for each of these information collection requirements approved by OMB: the title of the Federal Register notice; the Federal Register reference (date, volume, and leading page); OMB's Control Number; and the new expiration date.

Title of the information collection request | Date of Federal Register publication, Federal Register reference, and OSHA Docket No. | OMB control No. | Expiration date
1,2-Dibromo-3-Chloropropane (DBCP) Standard (29 CFR 1910.1044) | 04/06/2012, 77 FR 20850, Docket No. 2012-0010 | 1218-0101 | 11/30/2015
1,3-Butadiene Standard (29 CFR 1910.1051) | 07/06/2012, 77 FR 40087, Docket No. OSHA-2012-0027 | 1218-0170 | 02/29/2016
4,4′-Methylenedianiline for General Industry (29 CFR 1910.1050) | 01/30/2013, 78 FR 6350, Docket No. OSHA-2012-0040 | 1218-0184 | 06/30/2016
4,4′-Methylenedianiline for Construction (29 CFR 1926.60) | 11/16/2012, 77 FR 68849, Docket No. OSHA-2012-0031 | 1218-0183 | 05/31/2016
Asbestos in Shipyards Standard (29 CFR 1915.1001) | 04/02/2012, 77 FR 19737, Docket No. OSHA-2012-0009 | 1218-0195 | 11/30/2015
Benzene (29 CFR 1910.1028) | 02/28/2013, 78 FR 13707, Docket No. 2013-0008 | 1218-0129 | 06/30/2016
Blasting and the Use of Explosives (29 CFR part 1926, subpart U) | 02/17/2012, 77 FR 9703, Docket No. OSHA-2011-0747 | 1218-0217 | 08/31/2015
Cadmium in Construction Standard (29 CFR 1926.1127) | 03/06/2012, 77 FR 13357, Docket No. OSHA-2012-0004 | 1218-0186 | 08/31/2015
Cadmium in General Industry (29 CFR 1910.1027) | 03/06/2012, 77 FR 13359, Docket No. OSHA-2012-0005 | 1218-0185 | 08/31/2015
Electrical Protective Equipment (29 CFR 1910.137), and Electric Power Generation, Transmission, and Distribution (29 CFR 1910.269) | 01/23/2013, 78 FR 4873, Docket No. OSHA-2013-0003 | 1218-0190 | 06/30/2016
Hazardous Waste Operations and Emergency Response (HAZWOPER) (29 CFR 1910.120) | 04/30/2012, 77 FR 25500, Docket No. OSHA-2011-0862 | 1218-0202 | 11/30/2015
Hexavalent Chromium Standards for General Industry (29 CFR 1910.1026), Shipyard Employment (29 CFR 1915.1026), and Construction (29 CFR 1926.1126) | 10/09/2012, 77 FR 61431, Docket No. OSHA-2012-0034 | 1218-0252 | 05/31/2016
Inorganic Arsenic Standard (29 CFR 1910.1018) | 10/20/2011, 76 FR 65217, Docket No. OSHA-2011-0186 | 1218-0104 | 03/31/2015
Lead in Construction Standard (29 CFR 1926.62) | 08/10/2012, 77 FR 47883, Docket No. OSHA-2012-0014 | 1218-0189 | 02/29/2016
Lead in General Industry (29 CFR 1910.1025) | 08/10/2012, 77 FR 47882, Docket No. OSHA-2012-0013 | 1218-0092 | 02/29/2016
Occupational Safety and Health Administration Strategic Partnership Programs for Worker Safety and Health (OSPP) | 04/26/2012, 77 FR 24992, Docket No. OSHA-2011-0861 | 1218-0244 | 12/31/2015
Personal Protective Equipment (PPE) for General Industry (29 CFR part 1910 subpart I) | 01/30/2013, 78 FR 6352, Docket No. OSHA-2013-0004 | 1218-0205 | 06/30/2016
Personal Protective Equipment (PPE) for Shipyard Employment (29 CFR Part 1915, subpart I) | 12/05/2012, 77 FR 72411, Docket No. OSHA-2012-0038 | 1218-0215 | 05/31/2016
Process Safety Management of Highly Hazardous Chemicals (PSM) (29 CFR 1910.119) | 11/06/2012, 77 FR 66638, Docket No. OSHA-2012-0039 | 1218-0200 | 05/31/2016
Reports of Injuries to Employees Operating Mechanical Power Presses (29 CFR 1910.217(g)) | 05/25/2012, 77 FR 31396, OSHA-2012-0017 | 1218-0070 | 10/31/2015
Temporary Labor Camps (29 CFR 1910.142) | 05/25/2012, 77 FR 31395, OSHA No. 2012-0012 | 1218-0096 | 10/31/2015
Walking-Working Surfaces Standard (29 CFR part 1910, subpart D) | 02/13/2013, 78 FR 10212, Docket No. OSHA-2013-0002 | 1218-0199 | 06/30/2016

In accordance with 5 CFR 1320.5(b), an agency cannot conduct, sponsor, or require a response to a collection of information unless the collection displays a valid OMB control number and the agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on September 16, 2013.
David Michaels,
Assistant Secretary of Labor for Occupational Safety and Health.

[FR Doc. 2013-22823 Filed 9-18-13; 8:45 am]

BILLING CODE 4510-26-P